SECURITIES AND EXCHANGE COMMISSION

Sunshine Act Meetings

TIME AND DATE: Notice is hereby given, pursuant to the provisions of the Government in the Sunshine Act, Public Law 94-409, the Securities and Exchange Commission will hold an Open Meeting on Monday, December 21, 2020 at 10:00 a.m.

PLACE: The meeting will be held via remote means and/or at the Commission's headquarters, 100 F Street NE, Washington, DC 20549.

STATUS: This meeting will begin at 10:00 a.m. (ET) and will be open to the public via audio webcast only on the Commission's website at www.sec.gov.

MATTERS TO BE CONSIDERED: 1. The Commission will consider whether to authorize the execution of a Memorandum of Understanding and related documents with the Bundesanstalt für Finanzdienstleistungsaufsicht (“BaFin”) concerning consultation, cooperation and the exchange of information related to the supervision and oversight of certain cross-border over-the-counter derivatives entities in connection with the use of substituted compliance by such entities.

2. The Commission will consider whether to issue an Order, pursuant to Exchange Act Rule 3a71-6, granting conditional substituted compliance in connection with certain Exchange Act requirements related to risk control (but not including nonbank capital and margin requirements), internal supervision and compliance, counterparty protection, and books and records, in response to an application by BaFin.

3. The Commission will consider whether to issue a Notice, pursuant to Exchange Act Rule 0-13, seeking public comment on an application made by a foreign financial regulatory authority, pursuant to Exchange Act Rule 3a71-6, for a substituted compliance determination, and on a proposed order providing for the conditional availability of substituted compliance in connection with the application.

4. The Commission will consider whether to approve a proposed rule change by New York Stock Exchange LLC to amend Chapter One of the Listed Company Manual to modify the provisions relating to direct listings.

CONTACT PERSON FOR MORE INFORMATION: For further information and to ascertain what, if any, matters have been added, deleted or postponed, please contact Vanessa A. Countryman, Office of the Secretary, at (202) 551-5400.

Dated: December 14, 2020.
Vanessa A. Countryman,
Secretary.

[FR Doc. 2020-27866 Filed 12-15-20; 11:15 am]

BILLING CODE 8011-01-P